DEPARTMENT OF DEFENSE

Department of the Navy

Notice of Intent To Grant Partially Exclusive License; CG Industries, Inc.

AGENCY: Department of the Navy, DOD.

ACTION: Notice.

SUMMARY: The Department of the Navy gives notice of its intent to grant CG Industries, Inc., a revocable, nonassignable partially exclusive license, with exclusive fields of use in dimensional measurement, threaded measurement, in the United States to practice the Government-owned invention, U.S. Patent Application Serial Number 09/907,879 entitled “Automated Contact Gage System Using Three-Axis Contact Comparator.”

DATES: Anyone wishing to object to the grant of this license must file written objections along with supporting evidence, if any, not later than October 31, 2001.

ADDRESSES: Written objections are to be filed with Indian Head Division, Naval Surface Warfare Center, Code OC4, 101 Strauss Avenue, Indian Head, MD 20640-5035.

FOR FURTHER INFORMATION CONTACT: Dr. J. Scott Deiter, Head, Technology Transfer Office, Naval Surface Warfare Center Indian Head Division, Code 05T, 101 Strauss Avenue, Indian Head, MD 20640-5035, telephone (301) 744-6111.

Dated: September 28, 2001.
Robert E. Vincent II,
Lieutenant Commander, Judge Advocate General's Corps, U.S. Navy, Federal Register Liaison Officer.

[FR Doc. 01-25682 Filed 10-11-01; 8:45 am]

BILLING CODE 3810-FF-P